DEPARTMENT OF ENERGY

Federal Energy Regulatory Commission

[Docket No. RP00-505-001]

Kern River Gas Transmission Company; Notice of Compliance Filing

October 13, 2000.

Take notice that on October 10, 2000, Kern River Gas Transmission Company (Kern River) submitted supplemental information in support of its partial capacity turnback proposal in this proceeding.

Kern River states that the purpose of this filing is to comply with the Commission's Order dated September 22, 2000, which directed Kern River to file such supplemental information.

Kern River states that it has served a copy of this compliance filing upon each person designated on the official service list compiled by the Secretary in this proceeding.

Any person desiring to protest said filing should file a protest with the Federal Energy Regulatory Commission, 888 First Street NE, Washington, DC 20426, in accordance with section 385.211 of the Commission's Rules and Regulations. All such protests must be filed on or before October 20, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-26834 Filed 10-18-00; 8:45 am]

BILLING CODE 6717-01-M